NATIONAL ARCHIVES AND RECORDS ADMINISTRATION

[NARA-2015-016]

Agency Information Collection Activities: Proposed Collection; Cancellation

AGENCY: National Archives and Records Administration (NARA).

ACTION: Cancellation of notice.

SUMMARY: On December 4, 2014, NARA published a notice (79 FR 72033) that the agency was proposing to reinstate the information collection National Historical Publications and Records Commission (NHPRC) Grant Program, Budget Form and Instructions (OMB number 3095-0013, agency form number NA Form 17001), which NHPRC uses in its grant program. NARA invited the public to comment on the proposed information collection pursuant to the Paperwork Reduction Act of 1995. However, NARA is now cancelling that notice and request for comment, due to errors. NARA will publish a new, corrected notice and request for comments within the week.

DATES: This cancellation is effective immediately upon publication in the Federal Register.

ADDRESSES: Paperwork Reduction Act Comments (ISSD), Room 4400, National Archives and Records Administration, 8601 Adelphi Rd., College Park, MD 20740-6001; or faxed to 301-713-7409; or electronically mailed to tamee.fechhelm@nara.gov.

FOR FURTHER INFORMATION CONTACT: Tamee Fechhelm at telephone number 301-837-1694, or fax number 301-713-7409.

Dated: December 16, 2014.
Penny Ha,
Acting Executive for Information Services/CIO.

[FR Doc. 2014-29854 Filed 12-19-14; 8:45 am]

BILLING CODE 7515-01-P